FEDERAL MINE SAFETY AND HEALTH REVIEW COMMISSION

29 CFR Part 2702

Freedom of Information Act Procedural Rules

AGENCY: Federal Mine Safety and Health Review Commission.

ACTION: Proposed rule; reopening of comment period.

SUMMARY: The Federal Mine Safety and Health Review Commission (the “Commission”) previously published, on October 17, 2007, proposed revisions to its rules implementing the Freedom of Information Act (“FOIA”). The period for comments to the proposed rules ended on November 16, 2007. A request was made that the comment period be reopened and the Commission has agreed to do so.

DATE: Comments must be submitted on or before November 30, 2007.

ADDRESSES: Comments and questions may be mailed to Michael A. McCord, General Counsel, Office of the General Counsel, Federal Mine Safety and Health Review Commission, 601 New Jersey Avenue, NW., Suite 9500, Washington, DC 20001, or sent via facsimile to 202-434-9944.

FOR FURTHER INFORMATION CONTACT: Michael A. McCord, General Counsel, Office of the General Counsel, 601 New Jersey Avenue, NW., Suite 9500, Washington, DC 20001; telephone 202-434-9935; fax 202-434-9944.

SUPPLEMENTARY INFORMATION: On October 17, 2007, the Commission published revisions to its rules implementing the FOIA. 72 FR 58790. The comment period ended on November 16, 2007. The Commission received a request that the comment period be reopened. Recognizing that the Commission's rules implementing the FOIA impact the public, the Commission has agreed to reopen the comment period in order to extend the opportunity of the interested public to express any comments on the proposed rules. Comments on the proposed rules must be submitted on or before November 30, 2007.

Dated: November 16, 2007.
Michael F. Duffy,
Chairman, Federal Mine Safety and Health Review Commission.

[FR Doc. E7-22792 Filed 11-20-07; 8:45 am]

BILLING CODE 6735-01-P